DEPARTMENT OF HEALTH AND HUMAN SERVICES

National Institutes of Health

Center for Scientific Review; Amended Notice of Meeting

Notice is hereby given of a change in the meeting of the Center for Scientific Review Special Emphasis Panel, Member Conflict: Stroke, Traumatic Brain Injury and Sport-Related Concussions, March 25, 2020, 10:00 a.m. to 3:00 p.m., at the National Institutes of Health, Rockledge II, 6701 Rockledge Drive, Bethesda, MD 20892, which was published in the Federal Register on March 04, 2020, 85 FR 12799.

The meeting will be held on March 26, 2020. The meeting time and location remain the same. The meeting is closed to the public.

Dated: March 5, 2020.
Ronald J. Livingston, Jr.,
Program Analyst, Office of Federal Advisory Committee Policy.

[FR Doc. 2020-04928 Filed 3-10-20; 8:45 am]

BILLING CODE 4140-01-P